DEPARTMENT OF COMMERCE

Foreign-Trade Zones Board

[S-002-2020]

Approval of Subzone Status; Fisher Footwear, LLC; Cranbury, New Jersey

On January 7, 2020, the Executive Secretary of the Foreign-Trade Zones (FTZ) Board docketed an application submitted by the State of New Jersey Department of State, grantee of FTZ 44, requesting subzone status subject to the existing activation limit of FTZ 44, on behalf of Fisher Footwear, LLC, in Cranbury, New Jersey.

The application was processed in accordance with the FTZ Act and Regulations, including notice in the Federal Register inviting public comment (85 FR 2108-2109, January 14, 2020). The FTZ staff examiner reviewed the application and determined that it meets the criteria for approval. Pursuant to the authority delegated to the FTZ Board Executive Secretary (15 CFR Sec. 400.36(f)), the application to establish Subzone 44L was approved on March 2, 2020, subject to the FTZ Act and the Board's regulations, including Section 400.13, and further subject to FTZ 44's 407.5-acre activation limit.

Dated: March 2, 2020.
Andrew McGilvray,
Executive Secretary.

[FR Doc. 2020-04514 Filed 3-4-20; 8:45 am]

BILLING CODE 3510-DS-P